DEPARTMENT OF ENERGY

Federal Energy Regulatory Commission

[Docket No. RP00-336-025]

El Paso Natural Gas Company; Notice of Proposed Changes in FERC Gas Tariff

December 30, 2003.

Take notice that on December 22, 2003, El Paso Natural Gas Company (El Paso) tendered for filing 125 transportation service agreements (TSAs), and as part of its FERC Gas Tariff, Second Revised Volume No. 1-A, the following tariff sheets, with an effective date of February 1, 2004:

Twenty-First Revised Sheet No. 1

First Revised Sheet No. 2

Original Sheet Nos. 3, 4 and 5

Sheet Nos. 6 through 9

Thirty-Eighth Revised Sheet No. 30

El Paso states that the TSAs are being submitted for the Commission's review and information and have been listed on the tendered tariff sheets as potential non-conforming agreements.

Any person desiring to be heard or to protest said filing should file a motion to intervene or a protest with the Federal Energy Regulatory Commission, 888 First Street, NE., Washington, DC 20426, in accordance with § 385.214 or § 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Intervention and Protests Date: January 8, 2004.

Magalie R. Salas,
Secretary.

[FR Doc. E4-4 Filed 1-8-04; 8:45 am]

BILLING CODE 6717-01-P